SOCIAL SECURITY ADMINISTRATION

Statement of Organization, Functions and Delegations of Authority

This statement amends Part S of the Statement of the Organization, Functions and Delegations of Authority which covers the Social Security Administration (SSA). Notice is given that Chapter S8 for the Office of the Inspector General (OIG) is being amended to add, revise, and delete functions; retitle the name of the Office of the Counsel to the Inspector General; as well as, make several administrative and clerical revisions. The material changes are as follows: The Immediate Office of the Inspector General is being revised to add functions; the Office of Executive Operations within the Office of the Inspector General is also being revised to add and delete functions; the Office of the Counsel to the Inspector General is being retitled; and the Office of Investigations, within the Office of the Inspector General is being revised to add and delete functions.

Section S8.00 The Office of the Inspector General—(Mission):

Delete in its entirety and replace with the following:

The Office of the Inspector General (OIG) is directly responsible for meeting the statutory mission of promoting economy, efficiency, and effectiveness in the administration of Social Security Administration (SSA) programs and operations and to prevent and detect fraud, waste, abuse, and mismanagement in such programs and operations. To accomplish this mission, the OIG directs, conducts and supervises a comprehensive program of audits, evaluations and investigations, relating to SSA's programs and operations. OIG also searches for and reports systemic weaknesses in SSA programs and operations, makes recommendations for needed improvements, and corrective action.

Section S8.10 The Office of the Inspector General —(Organization):

Delete in its entirety and replace with the following:

The Office of the Inspector General under the leadership of the Inspector General includes the:

A. Inspector General (S8)

B. Deputy Inspector General (S8)

C. Immediate Office of the Inspector General (S8A)

D. Office of Investigations (S8B)

E. Office of Audit (S8C)

F. Office of Executive Operations (OEO) (S8L) ⁵

G. Office of the Chief Counsel to the Inspector General (S8H)

Section S8.20 The Office of the Inspector General—(Functions):

Delete paragraph C in its entirety and replace with the following:

C. The Immediate Office of the Inspector General (S8A) provides the Inspector General and Deputy Inspector General with staff assistance on the full range of their responsibilities and administers a comprehensive Professional Responsibility and Quality Assurance program that ensures the adequacy of OIG compliance with its policies and procedures, internal controls and professional standards. In addition, the Immediate OIG oversees the Ombudsman program to provide OIG employees with confidential and informal assistance for resolving work-related conflicts, disputes, and grievances; to promote fair and equitable treatment within OIG; and to work towards improving the overall quality of worklife for OIG employees. The Immediate OIG also directs reviews and takes actions to ensure the adequacy of OIG internal controls in accordance with the Federal Managers' Financial Integrity Act.

Delete paragraph D in its entirety and replace with the following:

D. The Office of Investigations (OI) (S8B) conducts and coordinates investigative activity related to fraud, waste, abuse, and mismanagement in SSA programs and operations including wrongdoing by individuals such as applicants, grantees, or contractors perpetrating criminal activity against SSA programs and operations. OI also investigates allegations of employee misconduct in the performance of their official duties.

This office serves as the OIG liaison to the Department of Justice on all matters relating to investigations of SSA programs and personnel, and reports to the Attorney General when OIG has reason to believe Federal criminal law has been violated. OI works with other investigative agencies and organizations on special projects and assignments. In support of its mission, OI carries out and maintains an internal quality assurance system.

Delete paragraph E in its entirety and replace with the following:

E. The Office of Audit (OA) (S8C) conducts and/or supervises comprehensive financial and performance audits of SSA's programs and operations and makes recommendations to ensure that program objectives and operational functions are achieved effectively and efficiently. Financial audits, required by the Chief Financial Officers' Act of 1990, assess whether SSA's financial statements fairly present the Agency's financial position, results of operations, and cash flow. Performance audits review the economy, efficiency, and effectiveness of SSA's programs and operations. OA also conducts short-term management and program evaluations focused on issues of concern to SSA, the Congress, and the general public. Evaluations often focus on identifying and recommending ways to prevent and minimize program and operational fraud, waste, and abuse, as well as inefficiency and ineffectiveness, rather than detecting problems after they occur.

Delete paragraph F ⁵ in its entirety and replace with the following:

F. The Office of Executive Operations (OEO) (S8L) provides administrative and management support to the Inspector General, Deputy Inspector General and all OIG components. OEO manages OIG's external and public affairs programs and serves as the primary resource for those seeking information about OIG. OEO develops press releases and coordinates information exchange among media outlets. OEO prepares publications and congressional correspondence and coordinates reporting requirements and interagency activities. OEO is responsible for strategic planning, organizational performance management and reporting. OEO formulates and executes the OIG budget and confers with the Office of the Commissioner, the Office of Management and Budget and the Congress on budget matters. OEO performs physical site facility and logistical planning for OIG components. OEO is responsible for property management and accountability. OEO develops and maintains internal OIG administrative and management policy and procedures. OEO performs all human resource support activities for OIG including recruitment, equal employment opportunity, personnel management, position management, performance management, disciplinary actions, staff training and development, personnel security and human resource policy. OEO provides and manages information technology for OIG. This includes the planning, design, development, testing, implementation and maintenance of hardware, software and telecommunications networks to support OIG's mission. OEO is responsible for the security of sensitive electronic data relating to investigations, audits and legal proceedings. OEO develops and administers systems security plans for OIG.

Retitle paragraph G., the Office of the Counsel to the Inspector General (OCIG) (S8H) ¹ to the Office of the Chief Counsel to the Inspector General (OCCIG).

Section S8B.00 The Office of Investigations—(Mission):

Delete 3rd sentence, and replace with the following:

Serves as OIG's liaison to the Department of Justice on all matters relating to investigations of SSA programs and personnel and reports to the Attorney General when OIG has reason to believe Federal criminal law has been violated. Delete 4th sentence, and replace with the following:

OI works with other investigative agencies and organizations on special projects and assignments.

Delete 5th sentence, and replace with the following:

In support of its mission, OI carries out and maintains an internal quality assurance system.

Section S8B.10 The Office of Investigations—(Organization):

Delete in its entirety and replace with the following:

The Office of Investigations (S8B) under the leadership of the Assistant Inspector General for Investigations, includes the:

A. Assistant Inspector General for Investigations (S8B)

B. Deputy Assistant Inspector General for Investigations—Field Operations

C. Deputy Assistant Inspector General for Investigations—National Investigative Operations

D. Immediate Office of the Assistant Inspector General for Investigations (S8B)

E. Strategic Enforcement Division (SED) (S8BA) ²

F. Enforcement Operations Division (EOD) (S8BC)

G. Critical Infrastructure Division (CID) (S8BV) ⁴

H. New York Field Division (NYFD) (S8BG)

I. Boston Field Division (BFD) (S8BH)

J. Atlanta Field Division (AFD) (S8BK)

K. Chicago Field Division (CFD) (S8BM)

L. Los Angeles Field Division (LAFD) (S8BN)

M. Dallas Field Division (DFD) (S8BP)²

N. Philadelphia Field Division (PFD) (S8BQ)

O. St. Louis Field Division (SLFD) (S8BR)

P. Denver Field Division (DVFD) (S8BS)

Q. Seattle Field Division (SFD) (S8BT)

R. Allegation Management Division (AMD) (S8BU)³

S. Manpower and Administration Division (MAD) (S8BW)⁴

Section S8B.20 The Office of Investigations—(Functions):

Delete B in its entirety and replace with the following:

B. Deputy Assistant Inspector General for Investigations—Field Operations provides line program planning and control capability for field investigative operations. Based on program evaluations and operating reports, develops standards and guidelines for redelegation of responsibilities to field Special Agents-in-Charge. Represents the AIGI in developing and fostering optimum public relationships with all concerned in field OIG investigative activity.

Delete C in its entirety and replace with the following:

C. Deputy Assistant Inspector General for Investigations—National Investigative Operations provides line program planning and control capability for national investigative operations. Based on program evaluations and operating reports, develops standards and guidelines for redelegation of responsibilities to Headquarters Special Agents-in-Charge. Represents the AIGI in developing and fostering optimum public relationships with all concerned in national OIG investigative activity.

Reletter C to D.

Retitle paragraph D to E and replace with the following:

E. The Strategic Enforcement Division (SED)(S8BA) develops and implements innovative anti-fraud initiatives, consistent with OIG strategic plans, to protect SSA programs and operations from fraud, waste, and abuse. SED is also responsible for planning and coordinating related multi-jurisdictional investigative activities for OI while promoting the judicious and effective use of available resources. SED responsibilities include:

1. Identifying systemic and programmatic vulnerabilities in SSA's operations and making recommendations for changes to the appropriate official.

2. In accordance with applicable law and policy, providing pertinent information from OIG records to assist Federal, State, and local investigative agencies in detecting, investigating and prosecuting fraud.¹ ²

Retitle paragraph E to F and replace with the following:

F. The Enforcement Operations Division (EOD) (S8BC) is responsible for the administration, training, policy development, and oversight of the investigative operations conducted by components within OI. The Division is also responsible for day-to-day coordination of the investigative and administrative information flow between OI headquarters and the field division offices. EOD responsibilities include:

1. Providing liaison with other law enforcement agencies and the SSA components that require assistance or providing assistance to OI investigative field offices.

2. Preparing reports and developing projects which respond to requests and requirements established by the Inspector General, SSA organizations, or the Congress.

3. Providing oversight of the Regional Anti-Fraud Committees in each of the 10 field divisions.

4. Managing requests for forensic services and polygraphs.

5. Providing oversight for investigations of Representative Payees.

6. Providing oversight for all OI activities relating to Homeland Security.

Delete the 2nd paragraph E in its entirety.

Retitle paragraph F to G and replace with the following:

G. The Critical Infrastructure Division (CID) (S8BV) coordinates with various SSA components and Government agencies to ensure that OIG is aware of the latest concerns, requirements, and techniques relating to critical infrastructure protection. The Division also manages the OI Electronic Crimes Team.

Retitle paragraph G to H and replace with the following:

H. The New York Field Division (NYFD) (S8BG) is responsible for conducting criminal, civil, and administrative investigations of fraud, waste, and abuse involving Social Security programs and operations within its designated geographic area. Investigative efforts by the division lead to criminal convictions, civil monetary penalties, and/or administrative sanctions.

Retitle paragraph H to I and replace with the following:

I. The Boston Field Division (BFD) (S8BH) is responsible for conducting criminal, civil, and administrative investigations of fraud, waste, and abuse involving Social Security programs and operations within its designated geographic area. Investigative efforts by the division lead to criminal convictions, civil monetary penalties, and/or administrative sanctions.

Retitle paragraph I to J and replace with the following:

J. The Atlanta Field Division (AFD) (S8BK) is responsible for conducting criminal, civil, and administrative investigations of fraud, waste, and abuse involving Social Security programs and operations within its designated geographic area. Investigative efforts by the division lead to criminal convictions, civil monetary penalties, and/or administrative sanctions.

Retitle paragraph J to K and replace with the following:

K. The Chicago Field Division (CFD) (S8BM) is responsible for conducting criminal, civil, and administrative investigations of fraud, waste, and abuse involving Social Security programs and operations within its designated geographic area. Investigative efforts by the division lead to criminal convictions, civil monetary penalties, and/or administrative sanctions.²

Retitle paragraph K to L and replace with the following:

L. The Los Angeles Field Division (LAFD) (S8BN) is responsible for conducting criminal, civil, and administrative investigations of fraud, waste, and abuse involving Social Security programs and operations within its designated geographic area. Investigative efforts by the division lead to criminal convictions, civil monetary penalties, and/or administrative sanctions.

Retitle paragraph L to M and replace with the following:

M. The Dallas Field Division (DFD) (S8BP) is responsible for conducting criminal, civil, and administrative investigations of fraud, waste, and abuse involving Social Security programs and operations within its designated geographic area. Investigative efforts by the division lead to criminal convictions, civil monetary penalties, and/or administrative sanctions.²

Retitle paragraph M to N and replace with the following:

N. The Philadelphia Field Division (PFD) (S8BQ) is responsible for conducting criminal, civil, and administrative investigations of fraud, waste, and abuse involving Social Security programs and operations within its designated geographic area. Investigative efforts by the division lead to criminal convictions, civil monetary penalties, and/or administrative sanctions.

Retitle paragraph N to O and replace with the following:

O. The St. Louis Field Division (SLFD) (S8BR) is responsible for conducting criminal, civil, and administrative investigations of fraud, waste, and abuse involving Social Security programs and operations within its designated geographic area. Investigative efforts by the division lead to criminal convictions, civil monetary penalties, and/or administrative sanctions.

Retitle paragraph O to P and replace with the following:

P. The Denver Field Division (DVFD) (S8BS) is responsible for conducting criminal, civil, and administrative investigations of fraud, waste, and abuse involving Social Security programs and operations within its designated geographic area. Investigative efforts by the division lead to criminal convictions, civil monetary penalties, and/or administrative sanctions.

Retitle paragraph P to Q and replace with the following:

Q. The Seattle Field Division (SFD) (S8BT) is responsible for conducting criminal, civil, and administrative investigations of fraud, waste, and abuse involving Social Security programs and operations within its designated geographic area. Investigative efforts by the division lead to criminal convictions, civil monetary penalties, and/or administrative sanctions.

Retitle paragraph Q to R and replace with the following:

R. The Allegation Management Division (AMD) (S8BU) plans, conducts, directs, and assists criminal and administrative investigations of alleged violations of the Social Security laws.³ AMD responsibilities include:

1. Managing the SSA Fraud Hotline.

2. Conducting projects in response to IG requests.

3. Referring allegations to OI field divisions, other OIG or SSA offices, or other law enforcement agencies for further development or investigation depending on the nature of the allegation.

Retitle paragraph R to S and replace with the following:

S. The Manpower and Administration Division (MAD) (S8BW) is responsible for budget coordination, policy development, preparation and circulation of statistical reports relating to OI's investigative accomplishments, and formulation of staffing plans. The Division identifies and procures special technical investigative equipment for use by OI personnel. The Division manages and develops training programs for OI personnel.

Section S8C.00 The Office of Audit—(Mission):

Replace in its entirety:

The Office of Audit (OA) (S8C) conducts comprehensive financial and performance audits of SSA's programs and operations and makes recommendations to ensure that program objectives and operational functions are achieved effectively and efficiently. Financial audits, required by the Chief Financial Officers' Act of 1990, assess whether SSA's financial statements fairly present the Agency's financial position, results of operations, and cash flow. Performance audits review the economy, efficiency, and effectiveness of SSA's programs and operations. OA also conducts short-term management and program evaluations focused on issues of concern to SSA, the Congress, and the general public. Evaluations often focus on identifying and recommending ways to prevent and minimize program and operational fraud, waste, and abuse as well as ineffectiveness and inefficiency, rather than detecting problems after they occur.

Section S8C.10 The Office of Audit—(Organization):

Delete in its entirety and replace with the following:

The Office of Audit (S8C) under the leadership of the Assistant Inspector General for Audit, includes the:

A. Assistant Inspector General for Audit (S8C)

B. Deputy Assistant Inspector General for Audit (S8C)

C. Immediate Office of the Assistant Inspector General for Audit (S8C)

D. General Management Audit Division (GMAD) (S8CB)⁵

E. Southern Audit Division (SAD) (S8CE)⁶

F. Northern Audit Division (NAD) (S8CG)⁶

G. Western Audit Division (WAD) (S8CH)⁶

H. Central Audit Division (CAD)

I. Mid-Atlantic Audit Division (MAAD)

J. Data Analysis and Technology Audit Division (DATAD) (S8CK)⁶

K. Financial Audit Division (FAD) (S8CL)⁶

L. Policy, Planning and Technical Services Division (PPTSD) (S8CM)⁵

Section S8C.20 The Office of Audit—(Functions):

Delete paragraph A in its entirety and replace with the following:

A. The Assistant Inspector General for Audit (S8C) is directly responsible to the Inspector General for carrying out OA's mission and providing general supervision to OA's major components.

Delete paragraph C in its entirety and replace with the following:

C. The Immediate Office of the Assistant Inspector General for Audit (S8C) includes policy, planning, and reporting and provides the Assistant Inspector General with staff assistance on the full range of his/her responsibilities.

Delete paragraph D in its entirety and replace with the following:

D. The General Management Audit Division (GMAD) (S8CB) is responsible for:

1. Performing audits and evaluations of SSA program and administrative functions.

2. Conducting short-duration, time-sensitive projects that address requests from Congress, senior SSA management, the public, and others.

3. Responding to inquiries and providing support for initiatives that encourage cooperative investigation-audit efforts.

4. Assisting other performance audit divisions in additional issue areas, such as performance monitoring.⁵

Delete paragraph E⁶ in its entirety and replace with the following:

E. The Southern Audit Division (SAD) (S8CE) plans, conducts, oversees, and reports on the results of audits, evaluations/inspections, and other reviews related to SSA's Old-Age, Survivors, and Disability Insurance, and the Supplemental Security Income Program. Specific audits, evaluations/inspections, and other reviews may focus on: Enumeration, Old-Age, Survivors and Disability Insurance Initial Claims and Post-entitlement Operations; Earnings Operations; Supplemental Security Income Initial Claims and Postentitlement Operations; Field Office Operations; Hearings and Appeals; Disability Determination Services; Representative Payees, Performance Measures; and various general management and administrative issues related to, but not limited to, facilities management, personnel, payroll, and budgeting.

Delete paragraph F⁶ in its entirety and replace with the following:

F. The Northern Audit Division (NAD) (S8CG) plans, conducts, oversees, and reports on the results of audits, evaluations/inspections, and other reviews related to SSA's Old-Age, Survivors, and Disability Insurance Program; and the Supplemental Security Income Program. Specific audits, evaluations/inspections may focus on: Enumeration, Old-Age, Survivors, and Disability Insurance Initial Claims and Post-entitlement Operations; Earnings Operations; Supplemental Security Income Initial Claims and Post-entitlement Operations; Field Office Operations; Hearings and Appeals; Disability Determination Services; Representative Payees, Performance Measures; and various general management and administrative issues related to, but not limited to, facilities management, personnel, payroll, and budgeting.

Delete paragraph G⁶ in its entirety and replace with the following:

G. The Western Audit Division (WAD) (S8CH) plans, conducts, oversees, and reports on the results of audits, evaluations/inspections, and other reviews related to SSA's Old-Age, Survivors, and Disability Insurance Program; and the Supplemental Security Income Program. Specific audits, evaluations/inspections, and other reviews may focus on: Enumeration, Old-Age, Survivors, and Disability Insurance Initial Claims and Post-entitlement Operations; Earnings Operations; Supplemental Security Income Initial Claims and Post-entitlement Operations; Field Office Operations; Hearings and Appeals; Disability Determination Services; Representative Payees, Performance Measures; and various general Management and administrative issues related to, but not limited to, facilities management, personnel, payroll, and budgeting.

Delete paragraph H6 in its entirety and replace with the following:

H. The Central Audit Division (CAD) plans, conducts, oversees, and reports on the results of audits, evaluations/inspections, and other reviews related to SSA's Old-Age, Survivors, and Disability Insurance Program; and the Supplemental Security Income Program. Specific audits, evaluations/inspections and other reviews may focus on: Enumeration, Old-Age, Survivors, and Disability Insurance Initial Claims and Post-entitlement Operations; Earnings Operations; Supplemental Security Income Initial Claims and Post-entitlement Operations; Field Office Operations; Hearings and Appeals; Disability Determination Services; Representative Payees, Performance Measures; and various general Management and administrative issues related to, but not limited to, facilities management, personnel, payroll, and budgeting.

Delete paragraph I⁶ in its entirety and replace with the following:

I. The Mid-Atlantic Audit Division (MAAD) plans, conducts, oversees, and reports on the results of audits, evaluations/inspections, and other reviews related to SSA's Old-Age, Survivors, and Disability Insurance Program; and the Supplemental Security Income Program. Specific audits, evaluations/inspections and other reviews may focus on: Enumeration, Old-Age, Survivors, and Disability Insurance Initial Claims and Post-entitlement Operations; Earnings Operations; Supplemental Security Income Initial Claims and Post-entitlement Operations; Field Office Operations; Hearings and Appeals; Disability Determination Services; Representative Payees, Performance Measures; and various general Management and administrative issues related to, but not limited to, facilities management, personnel, payroll, and budgeting.

Delete paragraph J in its entirety and replace with the following:

J. The Data Analysis and Technology Audit Division (DATAD) (S8CK) plans, conducts, oversees, and reports on the results of audits of SSA's centralized automated systems. The division is also responsible for reviews of general and application controls in SSA's automated data processing systems and for reviews of the operational efficiency and effectiveness of SSA's data processing operations.⁶

Add paragraph K as follows:

K. The Financial Audit Division (FAD) (S8CL) plans, conducts, oversees, and reports on the results of audits of Agency financial statements. The division is responsible for:6

1. Financial management audits and reviews, as defined in the Chief Financial Officers' Act of 1990, to include audits of accounting and financial reporting, financial systems, asset management, information resource management, budget execution, and internal controls.

2. Auditing and reviewing finance contracts and Disability Determination Services' administrative costs.

3. Monitoring SSA's performance in accordance with the Government Performance and Results Act by performing an oversight role.⁵

4. Performing various financial related audits, evaluations/inspections and other reviews of SSA's Old-Age, Survivors, and Disability Insurance Program; and the Supplemental Security Income Program. Specific audit, evaluations/inspections, and reviews may focus on: Enumeration, Old-Age, Survivors, and Disability Insurance Initial Claims and Post-entitlement Operations; Earnings Operations; Supplemental Security Income Initial Claims and Post-entitlement Operations; Field Office Operations; Hearings and Appeals; Disability Determination Services and Representative Payees.⁶

Add paragraph L as follows:

L. The Policy, Planning and Technical Services Division (PPTSD) (S8CM) provides the Assistant Inspector General and the Deputy Assistant Inspector General with technical assistance, operational, and staff support on the full range of his/her responsibilities, which include:

1. Developing policies and procedures, standards, and instructions for all OIG audit and evaluation activities, and ensuring compliance with generally accepted Government auditing standards; the President's Council on Integrity and Efficiency inspection standards; and other legal, regulatory, and administrative requirements.

2. Developing policies and procedures for OA's internal quality assurance system to provide reasonable assurance that applicable laws, regulations, procedures, standards, and other requirements are followed in all audit, evaluation and review activities.

3. Managing OA's management information system, audit resolution, training, and technical support for OIG audits, evaluations, and reviews.⁵

Retitle: Section S8H.00 The Office of the Counsel to the Inspector General—(Mission): to The Office of the Chief Counsel to the Inspector General—(Mission):

Delete: The Office of the Counsel to the Inspector General (OCIG) in the 1st sentence and replace it with: The Office of the Chief Counsel to the Inspector General (OCCIG). Delete: OCIG ¹ in sentences 2, 3, and 4, and replace with OCCIG.

Delete Section S8H.10 The Office of the Counsel to the Inspector General—(Organization): in its entirety and replace with the following:

Section S8H.10 The Office of the Chief Counsel to the Inspector General—(Organization):

OCCIG (S8H) under the leadership of the Chief Counsel to the Inspector General, includes:

A. Chief Counsel to the Inspector General (S8H).

B. Deputy Chief Counsel to the Inspector General (S8H).¹

C. The Immediate Office of the Chief Counsel to the Inspector General (S8H).

Retitle Section S8H.20 The Office of the Counsel to the Inspector General—(Functions): to Section S8H.20 The Office of the Chief Counsel to the Inspector General—(Functions)

Delete: The Counsel to the Inspector General in the 1st sentence under paragraph A and replace with: The Chief Counsel to the Inspector General.¹

Delete: The Deputy Counsel to the Inspector General ¹ in the 1st sentence under paragraph B and replace with: The Deputy Chief Counsel to the Inspector.

Delete: The Immediate Office of the Counsel ¹ in the 1st sentence under paragraph C and replace with: The Immediate Office of the Chief Counsel to the Inspector General.

Subchapter added Federal Register—July 11, 1996

Section S8L.00 The Office of Executive Operations—(Mission):

Delete in its entirety paragraph G ⁵ and replace with the following:

G. The Office of Executive Operations (OEO) provides administrative and management support to the Inspector General, Deputy Inspector General and all OIG components. OEO manages OIG's external public affairs programs and serves as the primary resource for those seeking information about OIG. OEO develops press releases and coordinates information exchange among media outlets. OEO prepares publications and congressional correspondence and coordinates reporting requirements and interagency activities. OEO is responsible for strategic planning, organizational performance management and reporting. OEO formulates and executes the OIG budget and confers with the Office of the Commissioner, the Office of Management and Budget and the Congress on budget matters. OEO performs physical site facility and logistical planning for OIG components. OEO is responsible for property management and accountability. OEO develops and maintains internal OIG administrative and management policy and procedures. OEO performs all human resource support activities for OIG including recruitment, equal employment opportunity, personnel management, position management, performance management, disciplinary actions, staff training and development, personnel security and human resource policy. OEO provides and manages information technology for OIG. This includes the planning, design, development, testing, implementation and maintenance of hardware, software and telecommunications networks to support OIG's mission. OEO is responsible for the security of sensitive electronic data relating to investigations, audits and legal proceedings. OEO develops and administers systems security plans for OIG.

Section S8L.10 The Office of Executive Operations— (Organization):

Delete in its entirety and replace with the following:

The Office of Executive Operations (S8L) under the leadership of the Assistant Inspector General for Executive Operations includes the:

A. Assistant Inspector General for Executive Operations (S8L)

B. Deputy Assistant Inspector General for Executive Operations (S8L)

C. Immediate Office of the Assistant Inspector General for Executive Operations (S8L).

D. Budget and Logistics Division (S8L-1)

E. Human Resources Division (S8LA).

F. Information Technology Division (S8LC).

G. External Affairs Division (S8LE).

Section S8L.20 The Office of Executive Operations—(Functions):

Delete paragraph A in its entirety and replace with the following;

A. The Assistant Inspector General for Executive Operations (AIGEO) (S8L) is directly responsible to the Inspector General for carrying out the OEO mission and providing general supervision to the major components of OEO.

Delete paragraph B in its entirety and replace with the following:

B. The Deputy Assistant Inspector General for Executive Operations (DAIGEO)(S8L) is responsible for assisting the AIGEO in carrying out his/her responsibilities.

Delete paragraph C in its entirety and replace with the following;

C. The Immediate Office of the Assistant Inspector General for Executive Operations (S8L) provides the AIGEO with staff assistance on the full range of his/her responsibilities.

Delete paragraph D in its entirety and replace with the following:

D. The Budget and Logistics Division (BFD)(S8L-1) is responsible for formulating, presenting and executing the OIG budget; performing a wide range of analytical, technical, and advisory functions related to the budgetary process; and analyzing financial and economic issues and activities facing the organization including a review and analysis of proposed and/or enacted legislation and regulations. The Division is also responsible for coordinating and integrating a national facilities management program including property and asset management. The Budget and Logistics Division coordinates the development of OIG's Strategic Plan and prepares the annual organizational performance plan. This division prepares and maintains OIG administrative policies and procedures.

Delete paragraph E in its entirety and replace with the following:

E. The Human Resources Division (HRD)(S8LA) is responsible for the development, presentation, and implementation of OIG nationwide personnel management policy; and a national personnel management and training program.

Delete paragraph F in its entirety and replace with the following:

F. The Information Technology Division (SSD)(S8LC) is responsible for the planning design, development testing and implementation of hardware, software and telecommunications systems for OIG nationwide. These responsibilities include developing and enforcing network policies; designing system interfaces; monitoring and evaluating hardware and telecommunications lines; developing, monitoring and evaluating software applications and associated interfaces with network devices. The division is also responsible for the security of sensitive data relating to investigations, audits, and legal proceedings which is kept on OIG computer systems as well as the administration of systems security plans for the OIG.

Add paragraph G as follows:

G. The External Affairs Division (EAD) (S8LE) is responsible for directing the OIG external and public affairs program. EAD coordinates interagency activities and responds to media, congressional and constituent inquiries. EAD prepares press releases, coordinates press conferences, and develops congressional testimony. EAD prepares speeches and publications, and communicates OIG's planned and current activities and their results to the Commissioner and the Congress as well as other entities.

Subchapter added Federal Register—December 15, 1999.

¹ Federal Register—July 11, 1996.

² Federal Register—August 1, 1997.

³ Federal Register—May 22, 1998.

⁴ Federal Register—September 22, 1998.

⁵ Federal Register—December 15, 1999.

⁶ Federal Register—December 21, 2001.

Dated: August 15, 2003.
James G. Huse, Jr.,
Inspector General.

[FR Doc. 03-26992 Filed 10-29-03; 8:45 am]

BILLING CODE 4191-02-P